DEPARTMENT OF DEFENSE

Office of the Secretary

Board of Visitors Meeting

AGENCY: Defense Acquisition University, DoD.

ACTION: Notice of Board of Visitors meeting.

SUMMARY: The September 18, 2002 meeting of the Defense Acquisition University (DAU) Board of Visitors (BoV) announced in the Federal Register on August 20, 2002 (67 FR 53916) has been canceled. The meeting has been rescheduled for October 22, 2002. The purpose of this meeting is to report back to the BoV on continuing items of interest.

DATES: October 22, 2002 from 0900-1500.

ADDRESSES: Packard Conference Center, Building 184, Fort Belvoir, Virginia.

FOR FURTHER INFORMATION CONTACT: Ms. Diane Reid at 703-805-5133.

SUPPLEMENTARY INFORMATION: The meeting is open to the public; however, because of space limitations, allocation of seating will be made on a first-come, first served basis. Persons desiring to attend the meeting should call Ms. Diane Reid at 703-805-5133.

Dated: September 12, 2002.
Patricia L. Toppings,
Alternative OSD Federal Register Liaison Officer, Department of Defense.

[FR Doc. 02-23855 Filed 9-19-02; 8:45 am]

BILLING CODE 5001-08-M